INTERNATIONAL TRADE COMMISSION

[Investigation No. 337-TA-1431]

Certain Nanolaminate Alloy Coated Metal Parts and Products Containing the Same; Commission Decision Not To Review an Initial Determination Amending the Complaint and Notice of Investigation

AGENCY: U.S. International Trade Commission.

ACTION: Notice.

SUMMARY: Notice is hereby given that the U.S. International Trade Commission has determined not to review an initial determination (“ID”) (Order No. 18) of the presiding administrative law judge (“ALJ”) granting a motion to amend the complaint and notice of investigation to correct the names of certain respondents and to remove one respondent.

FOR FURTHER INFORMATION CONTACT: Sidney A. Rosenzweig, Office of the General Counsel, U.S. International Trade Commission, 500 E Street SW, Washington, DC 20436, telephone (202) 708-2532. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On January 22, 2025, the Commission instituted this investigation based on a complaint filed by Modumetal, Inc. of Snohomish, Washington (“Modumetal”). 90 FR 7704 (Jan. 22, 2025). The complaint alleged violations of section 337 of the Tariff Act of 1930, as amended, 19 U.S.C. 1337, based upon the importation into the United States, the sale for importation, and the sale within the United States after importation of certain nanolaminate alloy coated metal parts, components thereof, and products containing the same by reason of the infringement of certain claims of U.S. Patent Nos. 10,253,419 and 11,242,613. Id. at 7704. The Commission instituted the investigation as to certain nanolaminate alloy coated metal parts and products containing the same. Id. at 7704 n.1. The Commission's notice of investigation named the following respondents: Parker Hannifin Corporation of Cleveland, Ohio and Lu Chu Shin Yee Works Co., Ltd. of Kaohsiung City, Taiwan (collectively, “Respondents”). Id. at 7704. The Office of Unfair Import Investigations is not a party to this investigation. Id.

On May 28, 2025, the Commission amended the complaint and notice of investigation to add seven new respondents: Jiangsu DVP Hi Press Tech Co. of Jiangsu, China (“Jiangsu DVP Hi Press”); Kunshan Huizong Machine Co. of Jiangsu, China (“Kunshan”); Maxort Philippines Inc. of Laguna, Philippines; Paloma Turning Co. Pvt Ltd. of Karnataka, India; Shaoxing Xuantong Fluid Connectors Manufacturing Co., Ltd. of Zhejiang, China; Overseas International Group of Shanghai, China (“Overseas”); and Zhejiang Unifull Industrial Fibre Co., Ltd. of Zhejiang, China (“Zhejiang Unifull”). Order No. 13 at 1, 7 (May 8, 2025), unreviewed by Notice (May 28, 2025).

On June 6, 2025, Modumetal filed an unopposed motion pursuant to Commission Rule 210.14(b)(1) & (c), 19 CFR 210.14(b)(1) & (c), to: amend the notice of investigation (“NOI”) to replace Zhejiang Unifull with Zhejiang Fitting Machinery Co., Ltd., also of Zhejiang China; correct the name of Jiangsu DVP Hi Press as Jiangsu DVP Hi Pressure Technology Co., Ltd., also of Jiangsu, China; correct the name of Overseas as Shanghai Overseas Enterprises Co., Ltd., also of Shanghai, China; and remove reference in the NOI to Kunshan to conform to evidence.

On June 10, 2025, the ALJ issued the subject ID (Order No. 18) granting the motion. The ID finds that good cause exists to grant the motion. ID at 5-6. The ID explains that the parties worked together to ensure that each of the respondents had been identified correctly. Id. at 2. Additionally, the ID notes that Kunshan should not be identified as a respondent because it was omitted from the amended complaint and was not served with the amended complaint. Id. at 4. Modumetal represented that there are no agreements, written or oral, express or implied, between itself and Kunshan concerning the subject matter of the investigation. Id. at 5.

No petitions for Commission review of the ID were filed. The Commission has determined not to review the ID.

The Commission vote for this determination took place on July 9, 2025.

The authority for the Commission's determination is contained in section 337 of the Tariff Act of 1930, as amended (19 U.S.C. 1337), and in Part 210 of the Commission's Rules of Practice and Procedure (19 CFR part 210).

By order of the Commission.
Issued: July 10, 2025.
Lisa Barton,
Secretary to the Commission.

[FR Doc. 2025-13114 Filed 7-11-25; 8:45 am]

BILLING CODE 7020-02-P